DEPARTMENT OF THE INTERIOR

Bureau of Land Management

[CA-190-08-1220-PN]

Notice of Closure of BLM Public Lands Within the Clear Creek Management Area

AGENCY: Bureau of Land Management, Department of the Interior.

ACTION: Notice of closure to all forms of entry and public use of approximately 31,000 acres of public lands within the Clear Creek Management Area (CCMA), referred to as the Serpentine Area of Environmental Concern (ACEC) and portions of adjacent BLM-administered lands, located in southern San Benito County and western Fresno County, California.

SUMMARY: Pursuant to 43 Code of Federal Regulations (CFR), subpart 8364.1, an Order has been issued by the Bureau of Land Management (BLM), Hollister Field Office, closing to all forms of entry and public use certain BLM-administered public lands. This closure is necessary to protect public land users from human health risks associated with exposure to airborne asbestos in the CCMA based upon a final report issued by the Environmental Protection Agency that concludes that public use activities could expose an individual to excess lifetime cancer risks. The order will remain in effect while the BLM completes a Resource Management Plan for the CCMA to determine if and how visitor use can occur without associated excess health risks. This closure affects approximately 31,000 acres of public lands located within the Bureau of Land Management's Clear Creek Management Area (CCMA).

DATES: The Order was issued and became effective on May 1, 2008.

FOR FURTHER INFORMATION CONTACT: Rick Cooper, Hollister Field Manager, BLM, Hollister Field Office, 20 Hamilton Court, Hollister, California, 95023. Telephone: 831-630-5010 Fax: 831-630-5055, during regular business hours, 7:30 a.m. to 4 p.m., Monday through Friday, except holidays.

SUPPLEMENTARY INFORMATION: CCMA is a remote area with hundreds of miles of roads and trails that were created to support historic timber harvesting and mining activities. The 63,000 acre area is a popular location for off-highway vehicle (OHV) recreation. A variety of other recreation activities also occur within the CCMA, including hunting, rock-hounding, wildlife watching, and hiking. This is a unique geological area with serpentine soils that contain naturally occurring asbestos.

BLM has issued the Closure Order in response to the results of a study conducted by the U.S. Environmental Protection Agency (EPA) that concludes public use activities could expose an individual to excess lifetime cancer risks.

Closure Order: Pursuant to 43 CFR 8364.1, BLM has issued an Order closing approximately 31,000 acres of public land to all forms of entry and public use within the Clear Creek Management Area (CCMA). The area is referred to as the Serpentine Area of Environmental Concern (ACEC) and portions of adjacent BLM-administered lands in lower Clear Creek Canyon, located in southern San Benito County and western Fresno County, California. The lands include portions of Mount Diablo Principal Meridian: Township 17 South, Ranges 11 and 12 East; Township 18 South, Ranges 11, 12 and 13 East, and Township 19 South, Range 13 East.

This closure is necessary to protect public land users from human health risks associated with exposure to airborne asbestos in the CCMA based upon a final report issued by the Environmental Protection Agency that concludes that public use activities could expose an individual to excess lifetime cancer risks. The order will remain in effect while the BLM completes a Resource Management Plan for the CCMA to determine if and how visitor use can occur without associated excess health risks.

The following persons are exempt from the identified restrictions:

(1) Federal, State, or local law enforcement officers, while engaged in the execution of their official duties.

(2) BLM personnel or their representatives while engaged in the execution of their official duties.

(3) Any member of an organized rescue, fire-fighting force, or emergency medical services organization while in the performance of their official duties.

(4) Any member of a federal, state, or local government agencies while in the performance of an official duty.

(5) Any person in receipt of a written authorization of exemption obtained from the authorized officer.

Private landowners within the restricted area and persons with valid existing rights-of-way, mining claims, or leases must request in writing access permission from Hollister Field Manager at the address listed below.

During the closure period the area will be clearly posted. Informational signs will be posted at main entry points to locations affected by this Order. Maps of the closed area will be posted with the Order at key locations that provide access to the closed area, and may also be obtained at the Hollister Field Office, 20 Hamilton Court, Hollister, California 95023.

Failure to comply with this order is punishable by a fine not to exceed $1,000 and/or imprisonment not to exceed 12 months Pursuant to 43 CFR, subpart 8360.0-7.

Dated: April 3, 2008.
Rick Cooper,
Hollister Field Manager.

[FR Doc. E8-9681 Filed 4-30-08; 8:45 am]

BILLING CODE 4310-40-P